DEPARTMENT OF HEALTH AND HUMAN SERVICES

Health Resources and Services Administration

Agency Information Collection Activities: Submission for OMB Review; Comment Request

Health Resources and Services Administration (HRSA) periodically publishes abstracts of information collection requests under review by the Office of Management and Budget (OMB), in compliance with the Paperwork Reduction Act of 1995 (44 U.S.C. Chapter 35). To request a copy of the clearance requests submitted to OMB for review, email paperwork@hrsa.gov or call the HRSA Reports Clearance Office at (301) 443-1984.

The following request has been submitted to the Office of Management and Budget for review under the Paperwork Reduction Act of 1995:

Proposed Project: Maternal, Infant and Early Childhood Home Visiting Program FY 2012 Non-Competing Continuation Progress Report (OMB No. 0915-xxxx)—[New] Activity Code: X02

On March 23, 2010, the President signed into law the Patient Protection and Affordable Care Act (ACA). Section 2951 of the Act amended Title V of the Social Security Act by adding a new section, 511, which authorized the creation of the Maternal, Infant, and Early Childhood Home Visiting Program, (http://frwebgate.access.gpo.gov/cgi-bin/getdoc.cgi?dbname=111_cong_bills&docid=f:h3590enr.txt.pdf, pages 216-225). The Act responds to the diverse needs of children and families in communities at risk and provides an unprecedented opportunity for collaboration and partnership at the federal, state, and community levels to improve health and development outcomes for at-risk children through evidence-based home visiting programs.

Under this program, $125 million was made available to states on a formula basis in both fiscal years (FY) FY 2010 and 2011. This funding was awarded to support states in implementing their Updated State Plans. Additionally, competitive funding was awarded in June 2011 for Development Grants and Expansion Grants. Development Grants are intended to support states and jurisdictions with modest evidence-based home visiting programs to expand the depth and scope of these efforts, with the intent to develop the infrastructure and capacity needed to seek an Expansion Grant in the future. Expansion Grants are intended to support states and jurisdictions that had already made significant progress towards a high-quality home visiting program or embedding their home visiting program into a comprehensive, high-quality early childhood system. Thirteen states were awarded Development Grants, and nine states were awarded Expansion Grants. These competitive grants are for 2 years (Development Grants) and 4 years (Expansion Grants), respectively. Grantees will be completing FY 2011 Progress Reports on activities conducted since September 30, 2011, along with an update on the activities to be conducted during FY 2012, in order to secure the release of their FY 2012 allocations.

The annual estimate of burden is as follows:

Instrument: A summary of the progress on the following activities | Number of respondents | Responses per respondent | Total responses | Hours per response | Total burden hours
Accomplishments and Barriers | 56 | 1 | 56 | 3 | 168
Program Goals and Objectives | 56 | 1 | 56 | 5 | 280
Update on Evaluation Plan | 56 | 1 | 56 | 5 | 280
Implementation in targeted at-risk communities | 56 | 1 | 56 | 14 | 784
Progress on Benchmark Reporting | 56 | 1 | 56 | 5 | 280
CQI efforts | 56 | 1 | 56 | 5 | 280
Program Administration | 56 | 1 | 56 | 5 | 280
Total | 56 | 1 | 56 |  | 2352

Written comments and recommendations concerning the proposed information collection should be sent within 30 days of this notice to the desk officer for HRSA, either by email to OIRA_submission@omb.eop.gov or by fax to 202-395-5806. Please direct all correspondence to the “attention of the desk officer for HRSA.”

Dated: August 6, 2012.
Wendy Ponton,
Director, Office of Management.

[FR Doc. 2012-19662 Filed 8-9-12; 8:45 am]

BILLING CODE 4165-15-P